DEPARTMENT OF HEALTH AND HUMAN SERVICES

Centers for Disease Control and Prevention

Strengthening Management Support Services for HHS Global AIDS Program in the Republic of India

Announcement Type: New.

Funding Opportunity Number: CDC-RFA-AA019.

Catalog of Federal Domestic Assistance Number: 93.067.

Key Dates:

Application Deadline: September 6, 2005.

I. Funding Opportunity Description

Authority: This program is authorized under Sections 301(a) and 307 of the Public Health Service Act [42 U.S.C. Sections 241 and 2421, as amended, and Under Public Law 108-25 (United States Leadership Against HIV/AIDS, Tuberculosis and Malaria Act of 2003 [22 U.S.C. 7601].

Background: President Bush's Emergency Plan for AIDS Relief has called for immediate, comprehensive and evidence-based action to turn the tide of global HIV/AIDS. The initiative aims to treat more than two million HIV-infected people with effective combination anti-retroviral therapy by 2008; care for ten million HIV-infected and affected persons, including those orphaned by HIV/AIDS, by 2008; and prevent seven million infections by 2010, with a focus on 15 priority countries, including 12 in sub-Saharan Africa. The five-year strategy for the Emergency Plan is available at the following Internet address: http://www.state.gov/s/gac/rl/or/c11652.htm.

The mission of the U.S. Department of Health and Human Services (HHS) Global AIDS Program (GAP) mission in India is to work with Indian and international partners to develop, evaluate and support effective implementation of interventions to prevent HIV and related illnesses, and to improve care and support of persons with HIV/AIDS. The program aims to build local capacity and promote in-country leadership and ownership of activities; focus on national and local priorities; share experiences and technical information, and coordinate activities with other programs; and use local expertise whenever possible.

Specifically, HHS/GAP's mission in India is to:

1. Provide support and training for HIV/AIDS prevention and care in health care facilities and in the community.

2. Establish training expertise for HIV/AIDS prevention and care and infrastructure development in Tamil Nadu, Andhra Pradesh and other states in India.

3. Strengthen the local and national responses to HIV/AIDS in India through support and collaboration with the Indian National AIDS Control Organization, State AIDS Control Societies, networks of HIV-positive people, the private sector and non-governmental organizations (NGOs), and others.

Purpose: The purpose of the program is to provide management, administrative and some technical support to the HHS/GAP India program.

Specific measurable outcomes of this program include, but are not limited to, routine reporting, which verifies responsible maintenance of program expenditures and program technical activities and confirms accountability of United States Government (USG) funds spent in India.

The measurable outcomes of the program will be in alignment with the goals of the National Center for HIV, Sexually Transmitted Diseases, and Tuberculosis Prevention (NCHSTP) within the Centers for Disease Control and Prevention within HHS: By 2010, work with other countries, international organizations, the U.S. Department of State, the U.S. Agency for International Development (USAID), and other partners to achieve the United Nations General Assembly Special Session on HIV/AIDS goal of reducing prevalence among young persons 15 to 24 years of age, reducing HIV transmission, and improving care of people living with HIV/AIDS (PLWHA). They will also contribute to the goals of the President's Emergency Plan for AIDS Relief (The Emergency Plan), which are to provide treatment to two million HIV-infected people, prevent seven million new HIV infections' and provide care for ten million people infected and affected by HIV/AIDS, including orphans and vulnerable children.

Under the leadership of the U.S. Global AIDS Coordinator, as part of the President's Emergency Plan, the U.S. Department of Health and Human Services (HHS) works with host countries and other key partners to assess the needs of each country and design a customized program of assistance that fits within the host nation's strategic plan.

HHS focuses on two or three major program areas in each country. Goals and priorities include the following:

• Achieving primary prevention of HIV infection through activities such as expanding confidential counseling and testing programs, building programs to reduce mother-to-child transmission, and strengthening programs to reduce transmission via blood transfusion and medical injections.

• Improving the care and treatment of HIV/AIDS, sexually transmitted diseases (STDs) and related opportunistic infections by improving STD management; enhancing care and treatment of opportunistic infections, including tuberculosis (TB); and initiating programs to provide anti-retroviral therapy (ART).

• Strengthening the capacity of countries to collect and use surveillance data and manage national HIV/AIDS programs by expanding HIV/STD/TB surveillance programs and strengthening laboratory support for surveillance, diagnosis, treatment, disease-monitoring and HIV screening for blood safety.

This announcement is only for non-research activities supported by HHS, including the CDC. If an applicant proposes research activities, HHS will not review the application. For the definition of research, please see the HHS/CDC Web site at the following Internet address: http://www.cdc.gov/od/ads/opspoll1.htm.

Activities:

The recipient of these funds is responsible for activities in multiple program areas designed to target underserved populations in India. Either the awardee will implement activities directly or will implement them through its subgrantees and/or subcontractors; the awardee will retain overall financial and programmatic management under the oversight of HHS/CDC and the strategic direction of the Office of the Global AIDS Coordinator. The awardee must show a measurable progressive reinforcement of the capacity of indigenous organizations and local communities to respond to the national HIV epidemic, as well as progress towards the sustainability of activities.

Applicants should describe activities in detail as part of a four-year action plan (U.S. Government Fiscal Years 2005-2008 inclusive) that reflects the policies and goals outlined in the five-year strategy for the President's Emergency Plan.

The grantee will produce an annual operational plan in the context of this four-year plan, which the U.S. Government Emergency Plan team on the ground in India will review as part of the annual Emergency Plan for AIDS Relief Country Operational Plan review and approval process managed by the Office of the U.S. Global AIDS Coordinator. The grantee may work on some of the activities listed below in the first year and in subsequent years, and then progressively add others from the list to achieve all of the Emergency Plan performance goals, as cited in the previous section. HHS/CDC, under the guidance of the U.S. Global AIDS Coordinator, will approve funds for activities on an annual basis, based on documented performance toward achieving Emergency Plan goals, as part of the annual Emergency Plan for AIDS Relief Country Operational Plan review and approval process.

Awardees activities for this program are as follows:

1. Through this cooperative agreement, funds will go to one or more organizations that will serve as “umbrella organizations,” responsible for identifying and procuring the services of a number of sub-grantees based upon requirements and criteria developed by, and in close collaboration with, HHS/GAP in India, in conjunction with the Office of U.S. Global AIDS Coordinators. The purpose of awarding to subgrantees is to provide HHS/GAP in India, with the ability to have access to technical support that will cover a broad technical and geographic base, and which might not be found in any one single organization. Such technical areas can include (but are not limited to) laboratory services, clinical management of HIV, community medicine, etc. A secondary purpose is to develop and build the capacity of the subgrantees, which will be indigenous NGOs/Community-based organizations (CBOs), faith-based organizations, hospitals and/or other health-care organizations, universities, and other groups capable of designing, implementing and monitoring HIV-related public health initiatives in India, such as medical training programs and community-care programs.

2. Awardees will also be responsible for disbursing and managing U.S. Government funding in a transparent and competitive manner to the subgrantees, in accordance with U.S. Government laws and requirements.

3. Awardees will provide accurate reporting of all funds to HHS/GAP in India.

4. Using criteria developed in collaboration with HHS/GAP in India, awardees will identify subgrantees in a transparent and competitive process, and work closely with the subgrantees to develop their programs. Such programs will be training centers for local Indian medical personnel, and will develop a feasible and effective strategy that can be initiated within six months of funding.

5. Awardees will select, establish and monitor the activities of an effective network of subgrantees and technical consultants, according to criteria and standards developed in collaboration with HHS/GAP in India.

6. Awardees may focus on other parts of the country, including one or more northern Indian states in areas where the HIV epidemic is emerging.

7. At least one of the awardees will focus its attention and activities on the southern region of India, where the epidemic has been concentrated to date.

8. Awardees will identify project staffing needs, including administrative, management and technical staff; hire and train staff.

9. Awardees will identify furnishings, fittings, equipment and other fixed-asset procurement needs of the project and acquire them through a transparent and competitive process.

10. Within the first three months from the date of this award, awardees will develop a strategic plan to include: goals; objectives; a monitoring plan; and an implementation strategy to identify recipients of sub-grants, in a transparent and competitive process, select and review their implementation activities, and establish their reporting requirements.

11. Awardees will establish a suitable administrative and financial management structure, by utilizing less than 10 percent of grant funds in overhead (inclusive of salaries, rent, office supplies, and management fees), or five percent (exclusive of salaries, rent, office supplies, and management fees).

12. Awardees will establish an acceptable reporting structure in collaboration with HHS/GAP India and including the strategic information guidance provided by the Office of the U.S. Global AIDS Coordinator.

13. Information on HIV prevention methods (or strategies) must include abstinence, faithfulness, and, for populations engaged in high-risk behaviors,¹ using condoms consistently and correctly. These approaches can avoid risk (abstinence) or effectively reduce risk for HIV (monogamy, consistent and correct condom use).

¹ Behaviors that increase risk for HIV transmission include engaging in casual sexual encounters, engaging in sex in exchange for money or favors, having sex with an HIV-positive partner or one whose status is unknown, using drugs or abusing alcohol in the context of sexual interactions, and using intravenous drugs. Women, even if faithful themselves, can still be at risk of becoming infected by their spouse, regular male partner, or someone using force against them. Other high-risk persons or groups include men who have sex with men and workers who are employed away from home. Awardees may not implement condom social marketing without also implementing abstinence and faithfulness behavior-change interventions.

14. Work to link activities described here with related HIV care and other social services in the area, and promote coordination at all levels, including through bodies such as village, district, regional and national HIV coordination committees and networks of faith-based organizations.

15. Participate in relevant national technical coordination committees and in national process(es) to define, implement and monitor simplified small grants program(s) for faith- and community-based organizations, to ensure local stakeholders receive adequate information and assistance to engage and access effectively funding opportunities supported by the President's Emergency Plan and other donors.

16. Progressively reinforce the capacity of faith- and community-based organizations and village and district AIDS committees to promote quality, local ownership, accountability and sustainability of activities.

Through this program, HHS/GAP in India will broaden its ability to implement care programs by establishing an effective arrangement with one or more organizations, which in turn will identify qualified subgrantees in a transparent and competitive process. Through this program, HHS/GAP in India will further support the goals of the President's Emergency Plan by developing and further strengthening the capacity of local organizations to provide good quality HIV care to people living with AIDS (PLWA) in India. The awardees will, through this program, provide technical support (through the subgrantees) to HHS/GAP in India.

Selected subgrantees will carry out the goals of GAP India through the following activities:

1. Strengthening the capacity of primary health care centers to address HIV care and prevention, initially in one or two districts in the State of Andhra Pradesh, with possible expansion into other districts in Andhra Pradesh or other Indian states, if successful.

2. Train private medical practitioners and village health nurses in local languages, and provide appropriate follow up to the training.

3. Develop centers of excellence in training of medical personnel in HIV/AIDS care.

4. Develop and sustain effective and cost-efficient community care and support interventions for PLWHAs.

5. Employ core team resource persons in various areas of expertise, such as training, counseling, management, behavior change communication, laboratory quality control, monitoring and evaluation.

6. Develop programs that enhance or complement existing HIV training programs.

7. Establish culturally and age-appropriate media advocacy programs in local languages.

8. Develop and administer public-private partnerships in close collaboration with HHS/GAP in India and with state AIDS control societies.

Based on its competitive advantage and proven field experience, the winning applicant will undertake a broad range of activities to meet the numerical Emergency Plan targets outlined above. For each of these activities, the grantee will give priority to evidence-based, yet culturally adapted, innovative approaches.

Administration: Comply with all HHS management requirements for meeting participation and progress and financial reporting for this cooperative agreement. (See HHS Activities and Reporting sections below for details.) Comply with all policy directives established by the Office of the U.S. Global AIDS Coordinator.

In a cooperative agreement, HHS staff is substantially involved in the program activities, above and beyond routine grant monitoring.

HHS activities for this program are as follows:

1. Provide input into the development of the overall program strategy, including collaboration in the selection of key personnel involved in the activities performed under this agreement.

2. Define, in collaboration with the awardees and other HHS partners, the specific geographic reach of the activities of the awardees.

3. Provide clearly defined goals and desired outcomes for subgrantee activities; and provide technical input and assistance in the selection of subgrantees.

4. Collaborate in the development of an information system for record-keeping and information access following the strategic information guidance provided by the Office of the U.S. Global AIDS Coordinator.

5. Collaborate in the development of a monitoring and evaluation system; and provide technical assistance, as needed, in the monitoring and evaluation of program activities, including all activities by subgrantees following the strategic information guidance provided by the Office of the U.S. Global AIDS Coordinator.

6. Assist, as needed, in appropriate analysis and interpretation of program evaluation data collected.

7. Provide support in all aspects of the implementation of the cooperative agreement. This will include, but will not be limited to, working with subgrantees to review existing materials available for PLWHA; developing culturally appropriate information and education resources for PLWHA; and supporting other activities that address stigma and discrimination, as required.

8. Promote coordination of activities, as required, between the awardees and other HHS/GAP in India programs.

9. Organize an orientation meeting with the awardee to brief them on applicable U.S. Government, HHS, and Emergency Plan expectations, regulations and key management requirements, as well as report formats and contents. The orientation could include meetings with staff from HHS agencies and the Office of the U.S. Global AIDS Coordinator.

10. Review and approve the process used by the awardee to select key personnel and/or post-award subcontractors and/or subgrantees to be involved in the activities performed under this agreement, as part of the Emergency Plan for AIDS Relief Country Operational Plan review and approval process, managed by the Office of the U.S. Global AIDS Coordinator.

11. Review and approve awardee's annual work plan and detailed budget, as part of the Emergency Plan for AIDS Relief Country Operational Plan review and approval process, managed by the Office of the U.S. Global AIDS Coordinator.

12. Review and approve awardee's monitoring and evaluation plan, including for compliance with the strategic information guidance established by the Office of the U.S. Global AIDS Coordinator.

13. Meet on a monthly basis with awardee to assess monthly expenditures in relation to approved work plan and modify plans as necessary.

14. Meet on a quarterly basis with awardee to assess quarterly technical and financial progress reports and modify plans as necessary.

15. Meet on an annual basis with awardee to review annual progress report for each U.S. Government Fiscal Year, and to review annual work plans and budgets for subsequent year, as part of the Emergency Plan for AIDS Relief review and approval process for Country Operational Plans, managed by the Office of the U.S. Global AIDS Coordinator.

Either HHS staff or staff from other organizations that have successfully competed for funding under a separate HHS contract, cooperative agreement or grant will provide technical assistance and training.

II. Award Information

Type of Award: Cooperative Agreement.

HHS involvement in this program is listed in the Activities Section above.

Fiscal Year Funds: 2005.

Approximate Total Funding: $300,000-$1,000,000 (year one). $300,000-$1,200,000 (per year for years two-five). (This amount is an estimate, and is subject to availability of funds.)

Approximate Number of Awards: One-Three.

Approximate Average Award: $300,000 per award (This amount is for the first 12-month budget period, and includes direct costs.)

Floor of Award Range: $150,000.

Ceiling of Award Range: $1,000,000 (This ceiling is for the first 12-month budget period.)

Anticipated Award Date: September 15, 2005.

Budget Period Length: 12 months.

Project Period Length: Five years.

Throughout the project period, HHS's commitment to continuation of awards will be conditioned on the availability of funds, evidence of satisfactory progress by the recipient (as documented in required reports), and the determination that continued funding is in the best interest of the Federal Government, as determined by the annual review of country operational plans for the President's Emergency Plan for AIDS Relief, managed by the Office of the U.S. Global AIDS Coordinator.

III. Eligibility Information

III.1. Eligible applicants

Organizations that possess the experience and ability to identify, select and manage sub-grantees in a transparent and competitive process and report back to HHS may submit applications. Awardees must be based in India and may be public, non-profit organizations; private non-profit organizations; universities; community-based organizations; and faith-based organizations with experience in identifying appropriate subgrantees in a transparent and competitive process to design and carry out the goals and objectives of HHS/GAP in India. Awardees must also be capable of providing planning, management and monitoring support to subgrantees.

In addition, each eligible applicant will:

• Be a legal entity that has worked in India for over ten years.

• Have experience in working in the health sector (preferably in the area of HIV/AIDS care and support) for over five years.

• Possess at least ten years of experience in successfully managing efficient and sustainable programs.

• Possess experience and capability in efficiently awarding (in a transparent and competitive process) and monitoring subcontracts and/or subgrants in India.

• Have earned the recognition and respect of the Government of India at both the national and state levels.

• Have earned the recognition and respect of local NGOs in India.

• Possess contacts and proactive working relationships with networks of NGOs and faith-based organizations.

• Have an existing office in one or more of the following locations, which will serve as the headquarters for this cooperative agreement: Chennai; Hyderabad; or Bangalore, for grantees that will focus on the southern region of India. If additional applicants are selected to focus on other regions in India, applicants must have an office in at least one of the following locations: Bhopal; Patna; Lucknow; Jaipur; Ranchi; Bhubaneshwar; Calcutta; or Mumbai. The applicant must have had a fully functional office of its own in one of the above cities for a minimum of two years.

Competition for this cooperative agreement is limited to the types of organizations listed above because of the uniqueness of the specific activities for this project. Awardees must have specific knowledge and capability to identify locally based subgrantees in urban and rural locations in a transparent and competitive process and in multiple and diverse geographic locations throughout India. The types of organizations listed above would have direct experience and on the ground capacity and knowledge to perform this type of activity in India in local languages.

Furthermore, a guiding principle of the President's Emergency Plan for AIDS Relief, which implements assistance for HIV/AIDS in countries throughout the world, calls for the support and development of local expertise and capacity so national programs can achieve results and monitor and evaluate their activities for the long term. Through the President's Emergency Plan, HHS/GAP in India seeks to support and foster the development of indigenous leadership, which is critical to developing a sustainable and successful response to the AIDS epidemic in India.

In adherence to these guiding principles, competition for this cooperative agreement is therefore limited to the organizations listed above.

III.2. Cost-Sharing or Matching Funds

Matching funds are not required for this program. Although matching funds are not required, preference will go to organizations that can leverage additional funds to contribute to program goals.

III.3. Other

If applicants request a funding amount greater than the ceiling of the award range, HHS/CDC will consider the application non-responsive, and it will not enter into the review process. We will notify you that your application did not meet the submission requirements.

Special Requirements: If your application is incomplete or non-responsive to the special requirements listed in this section, it will not enter into the review process. We will notify you that your application did not meet submission requirements.

• HHS/CDC will consider late applications non-responsive. See section “IV.3. Submission Dates and Times” for more information on deadlines.

• Note: Title 2 of the United States Code Section 1611 states that an organization described in Section 501(c)(4) of the Internal Revenue Code that engages in lobbying activities is not eligible to receive Federal funds constituting an award, grant, or loan.

IV. Application and Submission Information

IV.1. Address to Request Application Package

To apply for this funding opportunity use application form PHS 5161-1.

Electronic Submission

HHS strongly encourages you to submit your application electronically by using the forms and instructions posted for this announcement at http://www.grants.gov.

Paper Submission

Application forms and instructions are available on the HHS/CDC Web site, at the following Internet address: http://www.cdc.gov/od/pgo/forminfo.htm.

If you do not have access to the Internet, or if you have difficulty accessing the forms on-line, contact the HHS/CDC Procurement and Grants Office Technical Information Management Section (PGO-TIM) staff at: 770-488-2700. We can mail application forms to you.

IV.2. Content and Form of Submission

Application: You must submit a project narrative with your application forms. You must submit the narrative in the following format:

• Maximum number of pages: 20. If the narrative exceeds the page limit, we will only review the first pages within the page limit.

• Font size: 12 point unreduced.

• Double-spaced.

• Paper size: 8.5 by 11 inches.

• Page margin size: One inch.

• Printed only on one side of page.

• Held together only by rubber bands or metal clips; not bound in any other way.

• All pages must be numbered, and a complete index to the application and any appendices must be included.

• Application must be submitted in English.

Your narrative should address activities to be conducted over the entire project period, and must include the following items in the order listed:

1. A detailed summary of the applicant organization's past and current activities in India. This should include a description of the applicant's experience and expertise with: public health issues (including HIV); rural development; health care systems and infrastructure; training of medical personnel; managing large budgets; identifying, organizing and monitoring subgrantees and/or technical consultants; conducting or overseeing monitoring and evaluation activities; working with community groups; etc. The applicant should additionally describe its efforts and successes in sustaining interventions beyond the initial funding period.

2. A description of the applicant's existing infrastructure (including its offices) in the required state capital cities listed earlier in this announcement, and what function these offices have served over the past few years. The applicant should also include any expansion plans for its offices, or establishment of new offices in that region of India. The applicant should also describe its existing formal, as well as informal, relationships with other local and state-level organizations and agencies.

3. A detailed plan for initiating the activities required in the request for assistance in the first three-six months. This should include:

a. A detailed analysis of which states, or areas within certain states, the applicant proposes to work in; and which states/areas the applicant feels most comfortable working in (and why).

b. A discussion of the applicant's ability to identify and organize region or state(s) of focus; a plan or structure for selecting subgrantees and consultants; and a plan for communicating with subgrantees, consultants, contractors, HHS/CDC and its partners, and other governmental agencies and NGOs (including faith-based organizations) working in the field of HIV in that particular geographical area.

c. A plan for assessing the technical, management and human capacity needs of the subgrantees, as well as the technical consultants, within the specific needs of the local communities in addressing HIV prevention and care and then responding to those needs; and a plan for developing a focused and efficient monitoring and evaluation system.

d. A description of the project's contribution to the goals and objectives of the Emergency Plan for AIDS Relief.

4. A thorough description of the staffing needs associated with this project and the ability of the applicant to meet these needs. This should include the names of specific individuals who would likely work on this cooperative agreement project, their skills and experiences to date, and their role in the project in year one. Complete resumes/biographical sketches of these key personnel should be included as an appendix. This should include individuals currently working for the applicant organization, as well as those who would be hired as consultants or staff, if funded.

5. In addition to the 20-page narrative, the applicant should submit a description of a specific plan to develop a new and innovative HIV training center for medical personnel outside of Tamil Nadu State. This is one of HHS/GAP in India's priority strategies for 2005 and, thus, it is important for the applicant to show some ability to formulate this into a feasible and effective strategy that can be initiated within six months of funding. It will also serve as a concrete way to judge the applicant's ability to plan, mobilize resources, and work in highly technical subjects. In ten pages or less, the applicant should briefly define the specific goals of this intervention; determine a specific site for the intervention (including an explanation of why this site is best suited for the project); identify specific consultants and subgrantees required, and their scope of work; create a project timeline and budget; and determine how to monitor the progress and success of this intervention.

You may include additional information in the application appendices. The appendices will not count toward the narrative page limit. Additional information includes the following:

• Organizational Charts.

• Curriculum Vitas/Resumes.

• Letters of Support.

• Eligibility requirements are as follows:

a. Proof of legal status in India (ten years).

b. Proof of work in the health sector (preferably in the area of HIV/AIDS care and support) for over five years.

c. Experience and capability in efficiently implementing and monitoring subcontracts and/or subgrants in India.

HHS will consider applications that cannot provide proof of eligibility unresponsive.

You must include a full budget and budget justification for year one in the application. The specific overhead costs should be clear, with the total not exceeding the limit set forth earlier in this announcement. A summary budget, with a brief budget justification, should also be included to address years two through five of the cooperative agreement. The summary budget for years two through five should be accompanied by a brief justification and be consistent with planned program activities. The budget justification will not count in the page limit stated above.

You must have a Dun and Bradstreet Data Universal Numbering System (DUNS) number to apply for a grant or cooperative agreement from the Federal Government. The DUNS number is a nine-digit identification number, which uniquely identifies business entities. Obtaining a DUNS number is easy, and there is no charge. To obtain a DUNS number, access http://www.dunandbradstreet.com or call 1-866-705-5711.

For more information, see the HHS/CDC Web site at: http://www.cdc.gov/od/pgo/funding/grantmain.htm. If the application form does not have a DUNS number field, please write your DUNS number at the top of the first page of the application, and/or include the DUNS number in the application cover letter.

Additional requirements that could require you to submit additional documentation with your application are listed in section “VI.2. Administrative and National Policy Requirements.”

IV.3. Submission Dates and Times

Application Deadline Date: September 6, 2005.

Explanation of Deadlines: Applications must be received in the HHS/CDC Procurement and Grants Office by 4 p.m. Eastern Time on the deadline date.

You may submit your application electronically at http://www.grants.gov. We consider applications completed online through Grants.gov as formally submitted when the applicant organization's Authorizing Official electronically submits the application to http://www.grants.gov. We will consider electronic applications as having met the deadline if the applicant organization's Authorizing Official has submitted the application electronically to Grants.gov on or before the deadline date and time.

If you submit your application electronically with Grants.gov, your application will be electronically time/date stamped, which will serve as receipt of submission. You will receive an e-mail notice of receipt when HHS/CDC receives the application.

If you submit your application by the United States Postal Service or commercial delivery service, you must ensure the carrier will be able to guarantee delivery by the closing date and time. If HHS/CDC receives the submission after the closing date because: (1) Carrier error, when the carrier accepted the package with a guarantee for delivery by the closing date and time, or (2) significant weather delays or natural disasters, you will have the opportunity to submit documentation of the carrier's guarantee. If the documentation verifies a carrier problem, HHS/CDC will consider the submission as received by the deadline.

If you submit a hard copy application, HHS/CDC will not notify you upon receipt of your submission. If you have a question about the receipt of your application, first contact your courier. If you still have a question, contact the PGO-TIM staff at: (770) 488-2700. Before calling, please wait two to three days after the submission deadline. This will allow time for us to process and log submissions.

This announcement is the definitive guide on application content, submission address, and deadline. It supersedes information provided in the application instructions. If the submission does not meet the deadline above, it will not be eligible for review, and we will discard it. We will notify you that you did not meet the submission requirements.

IV.4. Intergovernmental Review of Applications

Executive Order 12372 does not apply to this program.

IV.5. Funding Restrictions

Restrictions, which you must take into account while writing your budget, are as follows:

• Funds may not be used for research.

• Award will allow recipients reimbursement of pre-award costs, such as photocopying, fax, postage or delivery charges, and translation.

• Awardees will establish a suitable administrative and financial management structure, utilizing less than 10 percent of grant funds in overhead (inclusive of salaries, rent, office supplies, and management fees), or five percent (exclusive of salaries, rent, office supplies, and management fees).

• Funds may be spent for reasonable program purposes, including personnel, travel, supplies, and services. Equipment may be purchased if deemed necessary to accomplish program objectives; however, prior approval by HHS/CDC officials must be requested in writing.

• All requests for funds contained in the budget shall be stated in U.S. dollars. Once an award is made, HHS/CDC will not compensate foreign grantees for currency exchange fluctuations through the issuance of supplemental awards.

• The costs that are generally allowable in grants to domestic organizations are allowable to foreign institutions and international organizations, with the following exception: With the exception of the American University, Beirut, and the World Health Organization (WHO), Indirect Costs will not be paid (either directly or through sub-award) to organizations located outside the territorial limits of the United States or to international organizations regardless of their location.

• The applicant may contract with other organizations under this program; however, the applicant must perform a substantial portion of the activities (including program management and operations, and delivery of prevention services for which funds are required).

• You must obtain an annual audit by a U.S.-based audit firm with international branches and current licensure/authority in-country, and in accordance with International Accounting Standards or equivalent standard(s) approved in writing by HHS/CDC.

• A fiscal Recipient Capability Assessment may be required, prior to or post award, in order to review the applicant's business management and fiscal capabilities regarding the handling of U.S. Federal funds.

• Funds received from this announcement will not be used for the purchase of antiretroviral drugs for treatment of established HIV infection (with the exception of nevirapine in Prevention of Mother-to-Child Transmission (PMTCT) cases with prior written approval), occupational exposures, and non-occupational exposures.

• No funds appropriated under this announcement shall be used to carry out any program of distributing sterile needles or syringes for the hypodermic injection of any illegal drug.

Prostitution and Related Activities

The U.S. Government is opposed to prostitution and related activities, which are inherently harmful and dehumanizing, and contribute to the phenomenon of trafficking in persons.

Any entity that receives, directly or indirectly, U.S. Government funds in connection with this document (“recipient”) cannot use such U.S. Government funds to promote or advocate the legalization or practice of prostitution or sex trafficking. Nothing in the preceding sentence shall be construed to preclude the provision to individuals of palliative care, treatment, or post-exposure pharmaceutical prophylaxis, and necessary pharmaceuticals and commodities, including test kits, condoms, and, when proven effective, microbicides.

A recipient that is otherwise eligible to receive funds in connection with this document to prevent, treat, or monitor HIV/AIDS shall not be required to endorse or utilize a multisectoral approach to combating HIV/AIDS, or to endorse, utilize, or participate in a prevention method or treatment program to which the recipient has a religious or moral objection. Any information provided by recipients about the use of condoms as part of projects or activities that are funded in connection with this document shall be medically accurate and shall include the public health benefits and failure rates of such use.

In addition, any recipient must have a policy explicitly opposing prostitution and sex trafficking. The preceding sentence shall not apply to any “exempt organizations” (defined as the Global Fund to Fight AIDS, Tuberculosis and Malaria, the World Health Organization and its six Regional Offices, the International AIDS Vaccine Initiative or to any United Nations agency).

The following definition applies for purposes of this clause:

• Sex trafficking means the recruitment, harboring, transportation, provision, or obtaining of a person for the purpose of a commercial sex act. 22 U.S.C. 7102(9).

All recipients must insert provisions implementing the applicable parts of this section, “Prostitution and Related Activities,” in all subagreements under this award. These provisions must be express terms and conditions of the subagreement, must acknowledge that compliance with this section, “Prostitution and Related Activities,” is a prerequisite to receipt and expenditure of U.S. Government funds in connection with this document, and must acknowledge that any violation of the provisions shall be grounds for unilateral termination of the agreement prior to the end of its term. Recipients must agree that HHS may, at any reasonable time, inspect the documents and materials maintained or prepared by the recipient in the usual course of its operations that relate to the organization's compliance with this section, “Prostitution and Related Activities.”

All prime recipients that receive U.S. Government funds (“prime recipients”) in connection with this document must certify compliance prior to actual receipt of such funds in a written statement that makes reference to this document (e.g., “[Prime recipient's name] certifies compliance with the section, “Prostitution and Related Activities.’ ”) addressed to the agency's grants officer. Such certifications by prime recipients are prerequisites to the payment of any U.S. Government funds in connection with this document.

Recipients' compliance with this section, “Prostitution and Related Activities,” is an express term and condition of receiving U.S. Government funds in connection with this document, and any violation of it shall be grounds for unilateral termination by HHS of the agreement with HHS in connection with this document prior to the end of its term. The recipient shall refund to HHS the entire amount furnished in connection with this document in the event HHS determines the recipient has not complied with this section, “Prostitution and Related Activities.”

You may find guidance for completing your budget on the HHS/CDC Web site, at the following Internet address: http://www.cdc.gov/od/pgo/funding/budgetguide.htm.

IV.6. Other Submission Requirements

Application Submission Address:

Electronic Submission:

HHS/CDC strongly encourages you to submit electronically at: http://www.grants.gov. You will be able to download a copy of the application package from http://www.grants.gov, complete it offline, and then upload and submit the application via the Grants.gov site. We will not accept e-mail submissions. If you are having technical difficulties in Grants.gov, you may reach them by e-mail at support@grants.gov or by phone at 1-800-518-4726 (1-800-518-GRANTS). The Customer Support Center is open from 7 a.m. to 9 p.m. Eastern Time, Monday through Friday.

HHS/CDC recommends that you submit your application to Grants.gov early enough to resolve any unanticipated difficulties prior to the deadline. You may also submit a back-up paper submission of your application. We must receive any such paper submission in accordance with the requirements for timely submission detailed in Section IV.3. of the grant announcement. You must clearly mark the paper submission: “BACK-UP FOR ELECTRONIC SUBMISSION.”

The paper submission must conform to all requirements for non-electronic submissions. If we receive both electronic and back-up paper submissions by the deadline, we will consider the electronic version the official submission.

We strongly recommend that you submit your grant application by using Microsoft Office products (e.g., Microsoft Word, Microsoft Excel, etc.). If you do not have access to Microsoft Office products, you may submit a PDF file. You may find directions for creating PDF files on the Grants.gov web site. Use of files other than Microsoft Office or PDF could make your file unreadable for our staff, or

Paper Submission

Submit the original and two hard copies of your application by mail or express delivery service to the following address: Technical Information Management—RFA AA019, CDC Procurement and Grants Office, U.S. Department of Health and Human Services, 2920 Brandywine Road, Atlanta, GA 30341.

V. Application Review Information

V.1. Criteria

Applicants must provide measures of effectiveness that will demonstrate the accomplishment of the various identified objectives of the cooperative agreement. Measures of effectiveness must relate to the performance goals stated in the “Purpose” section of this announcement. Measures must be objective and quantitative, and must measure the intended outcome. Applicants must submit these measures of effectiveness with the application, and they will be an element of evaluation.

We will evaluate your application against the following criteria:

1. Understanding the national HIV/AIDS response and cultural and political context in India and fitting into the five-year strategy and goals of the President's Emergency Plan. Understanding the issues, principles and systems required in providing effective leadership, management and support of subgrantees and technical experts, including the financial and the technical requirements to promote the goals and specific strategies of HHS/GAP India. (30 points).

Does the applicant demonstrate an understanding of the national cultural and political context and the technical and programmatic areas covered by the project? Does the applicant display knowledge of the five-year strategy and goals of the President's Emergency Plan, such that it can build on these to develop a comprehensive, collaborative project to reach underserved populations in India? Does the applicant prove (through its experience and the written proposal) that it has a firm understanding of public health and development within an Indian context, as well as some expertise in the existing systems of health care delivery and medical training in local languages in India? Does the applicant's proposal demonstrate knowledge of the systems required to effectively manage U.S. Government funds, disburse U.S. Government funds to a network of NGOs, CBOs, faith-based organizations and others, and provide management support to this network?

2. Work Plan. (20 points).

Does the applicant describe strategies that are pertinent and match those identified in the five-year strategy of the President's Emergency Plan and activities that are evidence-based, realistic, achievable, time-framed, measurable and culturally appropriate in India to achieve the goals of this program and of the Emergency Plan? Does the applicant propose an immediate start up plan to identify and select subgrantees and technical experts in a transparent and competitive process, which will help the grantee establish needed interventions and, at the same time, assist HHS in expanding its overall programmatic strategies?

3. Personnel. (20 points).

Are the professional personnel, including qualifications, training, availability and experience, adequate to carry out the proposed activities? Are specific individuals identified to lead this large initiative, and are they appropriate for the given task? Does the applicant have the connections and good will in the region to identify and recruit additional personnel? Do the proposed staff, sub-grantees, and consultants have the appropriate experience, the community trust, and the local language fluency necessary to provide technical assistance to CBOs, NGOs, faith-based organizations, the private sector, and/or state/local government agencies?

4. Administrative and Accounting Experience and Plan. (20 points).

Does the applicant have a proven track record in managing large budgets; running transparent and competitive procurement processes, supervising consultants and contractors; using subgrants or other systems of sharing resources with CBOs, faith-based organizations or smaller NGOs; and providing technical assistance? Is there a plan to prepare reports; monitor and audit expenditures under this agreement; manage the resources of the program; and produce, collect and analyze performance data?

5. Ability to work with HHS/GAP and other key stakeholders on implementing the project. (10 points).

Does the application address the requirement to work collaboratively with HHS/GAP in India in the development and implementation of program activities? Does the applicant, and their proposed staff, have the communication skills and systems to work effectively with multiple partners, including HHS/GAP in India? Does the applicant describe a plan to progressively build the capacity of local organizations and of target beneficiaries and communities to respond to the epidemic?

6. Budget. (Reviewed, but not scored).

Is the budget for conducting the activity itemized and well-justified and consistent with the five-year strategy and goals of the President's Emergency Plan and the stated activities and planned program activities? Is the overhead less than 10 percent of the total budget (including salaries, supplies, rent, and management fees) or less than five percent (excluding salaries, rent, office supplies, and management fees)?

V.2. Review and Selection Process

The HHS/CDC Procurement and Grants Office (PGO) staff will review applications for completeness, and HHS Global AIDS program will review them for responsiveness. Incomplete applications and applications that are non-responsive to the eligibility criteria will not advance through the review process. Applicants will receive notification that their application did not meet submission requirements.

An objective review panel will evaluate complete and responsive applications according to the criteria listed in the “V.1. Criteria” section above. All persons who serve on the panel will be external to the U.S. Government Country Program Office. The panel may include both Federal and non-Federal participants.

In addition, the following factors could affect the funding decision:

While U.S.-based organizations are eligible to apply, we will give preference to existing national/Indian organizations. It is possible for one organization to apply as lead grantee with a plan that includes partnering with other organizations, preferably local. Although matching funds are not required, preference will be go to organizations that can leverage additional funds to contribute to program goals.

V.3. Anticipated Award Date

September 15, 2005.

VI. Award Administration Information

VI.1. Award Notices

Successful applicants will receive a Notice of Award (NoA) from the HHS/CDC Procurement and Grants Office. The NoA shall be the only binding, authorizing document between the recipient and HHS/CDC. An authorized Grants Management Officer will sign the NoA, and mail it to the recipient fiscal officer identified in the application.

Unsuccessful applicants will receive notification of the results of the application review by mail.

VI.2. Administrative and National Policy Requirements

45 CFR Part 74 and Part 92.

For more information on the Code of Federal Regulations, see the National Archives and Records Administration at the following Internet address: http://www.access.gpo.gov/nara/cfr/cfr-table-search.html.

The following additional requirements apply to this project:

• AR-4 HIV/AIDS Confidentiality Provisions.

• AR-7 Executive Order 12372.

• AR-8 Public Health System Reporting Requirements.

• AR-12 Lobbying Restrictions.

• AR-14 Accounting System Requirements.

• AR-15 Proof of Non-Profit Status.

• AR-25 Release and Sharing of Data.

Applicants can find additional information on these requirements on the HHS/CDC Web site at the following Internet address: http://www.cdc.gov/od/pgo/funding/ARs.htm.

You need to include an additional Certifications form from the PHS5161-1 application in your Grants.gov electronic submission only. Please refer to http://www.cdc.gov/od/pgo/funding/PHS5161-1-Certificates.pdf. Once you have filled out the form, please attach it to your Grants.gov submission as Other Attachments Form.

VI.3. Reporting Requirements

You must provide HHS/CDC with an original, plus two hard copies, of the following reports:

1. Interim progress report, due no less than 90 days before the end of the budget period. The progress report will serve as your non-competing continuation application, and must contain the following elements:

a. Current Budget Period Activities Objectives.

b. Current Budget Period Financial Progress.

c. New Budget Period Program Proposed Activity Objectives.

d. Budget.

e. Measures of Effectiveness, including progress against the numerical goals of the President's Emergency Plan for AIDS Relief for India.

f. Additional Requested Information.

2. Annual progress report, due no more than 60 days after the end of the budget period. Reports should include progress against the numerical goals of the President's Emergency Plan for AIDS Relief for India.

3. Financial status report, due no more than 90 days after the end of the budget period.

4. Final financial and performance reports, no more than 90 days after the end of the project period.

Recipients must mail these reports to the Grants Management or Contract Specialist listed in the “Agency Contacts” section of this announcement.

VII. Agency Contacts

We encourage inquiries concerning this announcement.

For general questions, contact: Technical Information Management Section, CDC Procurement and Grants Office, U.S. Department of Health and Human Services, 2920 Brandywine Road, Atlanta, GA 30341, Telephone: 770-488-2700.

For program technical assistance, contact: Michael Friedman, MD, HHS/CDC, Global AIDS Program (India), Country Team c/o U.S. Consulate General, 220 Mount Road, Chennai, India 600 006, Telephone: 91-44-2811-2000, E-mail address: FriedmanM@gapcdcin.org, or Nancy Hedemark Nay, MPH (Project Officer), HHS/CDC, Global AIDS Program (India), Country Team c/o U.S. Embassy, Shantipath, Chanakyapuri, New Delhi, India 110 021, Telephone: 91-11-2419-8000, E-mail address: NHN1@cdc.gov.

For financial, grants management, or budget assistance, contact: Shirley Wynn, Grants Management Specialist, CDC Procurement and Grants Office, U.S. Department of Health and Human Services, 2920 Brandywine Road, Atlanta, GA 30341, Telephone: 770-488-1515, E-mail address: zbx6@cdc.gov.

VIII. Other Information

Applicants can find this and other HHS funding opportunity announcements on the HHS/CDC Web site, Internet address: http://www.cdc.gov (click on “Funding,” then “Grants and Cooperative Agreements”), and on the Web site of the HHS Office of Global Health Affairs, Internet address: http://www.globalhealth.gov.

Dated: August 5, 2005.
William P. Nichols,
Director, Procurement and Grants Office, Centers for Disease Control and Prevention, U.S. Department of Health and Human Services.

[FR Doc. 05-15891 Filed 8-10-05; 8:45 am]

BILLING CODE 4163-18-P